DEPARTMENT OF HEALTH AND HUMAN SERVICES

Administration for Children and Families

[Program Announcement No. 93612-004]

Administration for Native Americans; Availability of Financial Assistance.

AGENCY: Administration for Native Americans (ANA), ACF, DHHS.

ACTION: Announcement of availability of competitive financial assistance for information dissemination and strategy development relating to the de-regulation of electricity and its impact upon tribal populations. Projects would be funded in four areas—1 national grant and 3 grants in the following geographic areas: Area I—WA, OR, ID, western MT; Area II—ND, SD, NE, KS, eastern MT, MN, WI; Area III—CA, NV, UT, AZ, NM, CO, WY. This assistance, in the form of competitive grants is to be administered by the Administration for Native Americans.

SUMMARY: The Administration for Native Americans (ANA) announces the availability of fiscal year 2000 funds for information dissemination and strategy development relating to the de-regulation of electricity as it affects Indian Tribes and other Native American communities. Outreach activities would focus primarily on the energy policies established as a result of the Energy Policy Act of 1992, such as: (1) the Energy Planning and Management Program; and (2) the Comprehensive Electricity Competition Plan, implemented by the Clinton administration. The Energy Policy Act also contains provisions affecting Indian Tribes and Native communities and should be included in information dissemination/outreach activities. ANA plans to fund four (4) grants—one at the national level and the others in the following geographic areas: Area I: WA, OR, ID, western MT; Area II: ND, SD, NE, KS, eastern MT, MN, WI; Area III: CA, NV, UT, AZ, NM, CO, WY. These projects are for the purpose of developing comprehensive electricity de-regulation information dissemination and strategies designed to assist tribal and community leaders in making informed decisions relating to participation in new energy relationships as both a potential supplier and consumer.

Financial assistance provided by ANA in support of projects in this area is intended to promote information dissemination and strategy development concerning the de-regulation of electricity for the benefit of all Indian Tribes and Native communities affected by these changes in the electricity industry.

DATES: The closing data for receipt of applications is August 7, 2000.

ADDRESSES: Application kits, containing the necessary forms and instructions to apply for a grant under this program announcement, may be obtained from:

RJS & Associates, Inc., Dr. Robert Swan, C.E.O., RR1, Box 694, Box Elder, MT 59521, Tel: 406-395-4727 or 888-838-4757, Fax: 406-395-4759, e-mail: rjsinc@rjsinc.org, website: http//www.rjsinc.org/region2.html

Native American Management Services, Inc., Tonya Parker, Project Director, 6858 Old Dominion Drive, Suite 302, McLean, VA 22101, Tel: 703-821-2226 or 800-388-7670, Fax: 703-821-3680 e-mail: nams@namsinc.org

Development Associates, Inc., E. Robles, Project Director, 1475 North Broadway, Suite 200, Walnut Creek, CA 94596, Tel: 925-935-9711 or 800-666-9711, Fax: 925-935-0413 e-mail: ana3@devassoc.com, website: http://www.devassoc.com/ana/anaversion2.htm

FOR FURTHER INFORMATION CONTACT: ANA Help Desk, Administration for Children and Families, Administration for Native Americans, 370 L'Enfant Promenade, SW., Mail Stop HHH 348F, Washington, D.C. 20447, Tel: (202) 690-7776 or toll free 1-877-922-9262 Fax: (202) 690-7441.

Copies of this program announcement and many of the required forms may be obtained electronically at the ANA web page: www.acf.dhhs.gov/programs/ana/

Introduction and Purpose

This Announcement describes the availability of fiscal year 2000 financial assistance for grants to develop and disseminate consistent program information on the de-regulation of electricity as it affects Indian Tribes and Native communities.

ANA fully supports and assists tribal and Alaska Native Village governments, Native American institutions, and local leadership in exercising local control and decision-making over their resources. Consistent with this policy, ANA will assist Indian Tribes and Native communities in obtaining the most recent and relevant information regarding de-regulation of the electricity industry. This information will assist Tribes in making informed decisions about options under new regulations resulting from the Energy Policy Act of 1992. Outreach materials and activities must fully address the range of options available to Indian Tribes and Native communities under de-regulation. Types of information to be provided include but are not limited to: The latest agreements Tribes have made with federal power marketing agencies such as Western Area Power Administration (WAPA) and Bonneville Power Administration (BPA); federal funding and future potential arrangements among Indian Tribes, Federal agencies, state governments, power companies, and other energy resource entities.

This will be accomplished by funding four (4) information dissemination and strategy development grants, consisting of 1 national grant and 3 grants in the following geographic areas: Area I: WA, OR, ID, western MT; Area II: ND, SD, NE, KS, eastern MT, MN, WI; Area III: CA, NV, UT, AZ, NM, CO, WY. The emphasis on information dissemination in these geographic areas is based upon: (1) The high concentration of tribal populations in those areas; and (2) the imminent nature of changes relating to electricity de-regulation for Tribes in the those regions, particularly for those Tribes affected by WAPA's power allocation. Eligibility for these grants extends to those listed in PART II, Section D “Eligible Applicants”.

Funding authorization is provided under section [803(a) of the Native American Programs Act of 1974, as amended (Pub. L. 93-644, 88 Stat. 2324, 42 U.S.C. 2991b).

Proposed projects will be reviewed on a competitive basis against the specific evaluation criteria presented in this announcement. Applicants may submit proposals for more than one geographic area, but it is anticipated that no single organization will be awarded a grant for more than one area. However, should a shortage of highly ranked organizations develop, ANA may award more than one grant to an organization or may combine areas under one grant.

This program announcement consists of three parts:

Part I. ANA Policy and Goals

Provides general information about ANA's policies and goals as they relate to electricity de-regulation information dissemination and strategy development grants.

Part II. Electricity De-Regulation Information Dissemination and Strategy Development Grants

Describes the Electricity De-regulation Information Dissemination and Strategy Development Grants under which ANA is requesting applications.

The following sections provide specific information to be used to develop an application for ANA funds:

A. Purpose and Availability of Funds

B. Background

C. Competitive Geographical Areas of Consideration

D. Eligible Applicants

E. Grantee Share of the Project

F. Review Criteria

G. Application Due Date

H. Contacts to Obtain Further Information

Part III. General Application Information and Guidance

Provides important information and guidance that must be taken into account in developing an application for one or more of the four (4) geographic areas. These geographic areas are defined in PART II, Section C. “Competitive Geographic Areas of Consideration”.

Part I—ANA Policy and Goals

The mission of the Administration for Native Americans is to promote the goal of social and economic self-sufficiency for American Indians, Alaska Natives, Native Hawaiians and other Native American Pacific Islanders. ANA believes that the responsibility of achieving self-sufficiency resides with the governing bodies of Indian Tribes, Alaska Native Villages and in the leadership of Native American groups. A community's progress toward self-sufficiency is based on its efforts to plan, organize and direct resources in a comprehensive manner consistent with its long-range goals.

ANA fully supports and assists tribal and Alaska Native Village governments, Native American institutions, and local leadership in exercising local control and decision-making over their resources.

Consistent with this policy, ANA is offering federal assistance through grant projects designed to assist Indian Tribes and Native communities to gain information relating to the de-regulation of electricity. Information and analysis to be provided through these four (4) ANA grants must fully address the range of options available to Indian Tribes and Native communities.

ANA will provide financial assistance to successful applicants to disseminate information about de-regulation of electricity in specific geographic areas. These electricity de-regulation information dissemination and strategy development grants will last for up to one year. Applicants must describe concrete strategies to gather, organize and disseminate information. Planning for the project must consider the maximum use of all available resources, including: initial coordination with ANA, other government agencies, and energy related organizations to ensure that the electricity de-regulation information to be provided to Tribes is comprehensive and current; how resources will be directed to information dissemination; and comprehensive strategies for presenting the information, such as meetings, forums, workshops, cluster sessions and on-site presentations. Applicants should explain how they would use their in-house expertise and experience in developing their information dissemination strategies.

An application from a Federally-Recognized Tribe or Native American organization must be from the governing body of the Tribe or organization. ANA will not accept applications from tribal components which are tribally-authorized divisions of a larger Tribe, unless the application includes a Tribal Resolution which clearly demonstrates the Tribe's support of the project and the Tribe's understanding that the other applicant's project supplants the Tribe's authority to submit an application.

Part II—Electricity De-Regulation Information Dissemination and Strategy Development Grants

This part describes ANA's funding authority, priorities, requirements and review criteria. The standard requirements necessary for each application as well as the standard ANA program guidance and technical guidance are described in Part III of this announcement.

A. Purpose and Availability of Funds

This Announcement describes the availability of fiscal year 2000 financial assistance for grants to develop and disseminate consistent program information on the de-regulation of electricity as it affects Indian Tribes and Native American communities.

Approximately a total of $850,000 of financial assistance is anticipated to be available for electricity de-regulation information dissemination and strategy development. ANA anticipates awarding four (4) competitive grants divided into (1) nationwide for $250,000 and (3) geographic areas for $200,000 each—Area I: WA, OR, ID, western MT; Area II: ND, SD, NE, KS, eastern MT, MN, WI; Area III: CA, NV, UT, AZ, NM, CO, SY.

B. Background

The electricity industry in the United States is undergoing a complete restructuring process as a result of the federal government's move to de-regulate interstate electricity markets. Already more than half of the states representing the larger share of electricity consumption in the country have created competitive markets, particularly at the wholesale and industrial levels.

Competition is slowly spreading to the retail, residential market. In previous years, Tribes had little opportunity to seek lower prices or better service, although technically they were exempt from state regulation because all of the other players with whom they would do business were regulated. De-regulation and the opening of markets to competition provide Tribes with an opportunity for future economic and social development.

After passage of the Energy Policy Act of 1992, Tribes saw emerging opportunities arising from the de-regulation of the electricity industry. Tribes, tribal coalitions and organizations began working together with federal power marketing administrations (Bonneville Power Administration and Western Area Power Administration) to assure tribal status as preferred customers and recipients of low cost electricity. Before 1992, Tribes were essentially barred from receiving low-cost, federally-generated hydropower by WAPA's policy which required that a tribe obtain full utility status before receiving WAPA Power. In 1993, however, Deputy Energy Secretary Bill White decreed that Indian Tribes no longer were required to own their own distribution systems to received federal power allocations. Since 1993 Tribes have been designated as non-utility preference customers and are provided an allocation of low-cost, federally-generated hydropower. In 1995, WAPA published their final rule for the Energy Planning and Management (EPAM) Program, the goal of which is: (1) To require planning and efficient electric energy use by WAPA's firm power resource pools when existing resource commitments expire; and (2) to allocate power from these pools to new preference customers. Implications for Tribes include: Recognition of federally recognized Tribes as “preference customers”; contractual arrangements with WAPA and local energy providers to manage energy allocation; tribal collaboration with local energy providers to transmit their energy allocation to end-users.

In order to assist Tribes in maximizing opportunities arising from these historic changes in the electricity industry, as ad hoc National Intertribal Energy Network was formed.

In 1999, representatives from over 200 Tribes met and produced the National Tribal Energy Vision for the Year 2010. Achieving this vision—that every tribe has the right to access a sufficient, reliable electricity supply at a reasonable price to meet its social and economic needs—was projected to come from three strategies: accessing hydropower as preference customers; taking advantage of local conventional and renewable energy resources to produce their own; and working together to purchase power in a competitive electricity market.

Tribes now have an opportunity to access federal hydropower; develop partnerships with other Tribes and private industry; set standards for service while protecting their emerging internal domestic market; develop their own programs and plans responsive to the local vision.

The information will be disseminated through four ANA grants—one (1) at the national level and three (3) in the following geographic areas—Area I: WA, OR, ID, western MT; Area II: ND, SD, NE, KS, eastern MT, MN, WI; Area III: CA, NV, UT, AZ, NM, CO, WY. These grantees will assist Indian Tribes and Native communities in understanding and assessing their options resulting from the de-regulation of electricity. Such information may include the background and current status of electricity de-regulation; data systems and other administrative requirements needed to enter into collaborative or contractual arrangements such as the EPAM Program; current or anticipated funds available to Indian Tribes and Native communities in designing new energy programs and technologies; implications of the National Tribal Energy Vision for the Year 2010; opportunities for Tribes in energy infrastructure development, accessing outside markets for tribal energy services, purchasing power in a competitive electricity market, and opportunities in creating utility ordinates and operations.

Applications should also address gathering information and assuring that all information provided to Tribes is authoritative, comprehensive and current. Proposals should be as specific as possible in identifying how information will be disseminated to Tribes and how options will be explored. Proposals should also clearly identify the approaches to be taken, such as meetings, forums, cluster groups, and on-site presentations. A recognition of the diversity of local tribal needs and capabilities should also be fully articulated. Information and strategies developed in the three geographic area projects will be shared with the national project, and the national project will work together with an coordinate closely with the three geographic area projects.

C. Competitive Areas of Consideration

In addition to the national project, three projects will cover the following geographic areas:—Area I: WA, OR, ID, western MT; Area II: ND, SD, NE, KS, eastern MT, MN, WI; Area III: CA, NV, UT, AZ, NM, CO, WY.

Applicants may submit one application per grographic area. An applicant may receive only one grant, regardless of the number of areas in which it competes. Should a shortage of highly ranked organizations develop, however, ANA may award more than one grant to an organization or may combine geographic areas under one grant.

D. Eligible Applicants

The following organizations are eligible to apply under this announcement:

• Federally recognized Indian Tribes;

• Consortia of Indian Tribes;

• Incorporated non-federally recognized Tribes;

• Incorporated nonprofit multi-purpose community-based Indian organizations;

• Urban Indian Centers;

• National or regional incorporated nonprofit Native American organizations with Native American community-specific objectives;

• Alaska Native Villages as defined in the Alaska Native Claims and Settlement Act (ANCSA) and/or non-profit village consortia;

• Incorporated nonprofit Alaska Native multi-purpose community-based organizations;

• Nonprofit Alaska Native Regional Corporations/Associations in Alaska with village-specific projects;

• Public and nonprofit private agencies serving Native Hawaiians (The populations served may be located on these Islands or on the continental United States);

• Public and nonprofit private agencies serving Native peoples from Guam, American Samoa, Palau, or the Commonwealth of the Northern Mariana Islands (The populations served may be located on these islands or in the United States);

• Tribally controlled community colleges, Tribally controlled post secondary vocational institutions, and Native controlled colleges and universities located in Hawaii, Guam, American Samoa, Palau or the Commonwealth of the Northern Mariana Islands which serve Native American Pacific Islanders;

• Non-profit Alaska Native community entities or tribal governing bodies (Indian Reorganization Act or traditional Councils) as recognized by the Bureau of Indian Affairs.

Note: Current ANA SEDS grantees are eligible to apply under this announcement. Any non-profit organization submitting an application must submit proof of its non-profit status in its application at the time of submission. The non-profit agency can accomplish this by providing a copy of the applicant's listing in the Internal Revenue Service's (IRS) most recent list of tax exempt organizations described in section 501(c)(3) of the IRS code or by providing a copy of the currently valid IRS tax exemption certificate, or by providing a copy of the articles of incorporation bearing the seal of the State in which the corporation or association is domiciled.

If the applicant, other than a Tribe or an Alaska Native Village government is proposing a project benefiting Native Americans, Alaska Natives, or both, it must provide assurance that its duly elected or appointed board of directors is representative of the community to be served. To establish compliance with this requirement in the regulations, applicants must provide information establishing that at least ninety (90) percent of the individuals serving on a non-profit applicant's board fall into one or more of the following categories; (1) A current or past member of the community to be served; (2) a prospective participant or beneficiary of the project to be funded; or (3) have a cultural relationship with the community to be served.

E. Grantee Share of the Project

Grantees must provide at least 20 percent of the total approved cost of the project. (The total approved cost of the project is the sum of the ACF share and the non-Federal share.) The non-Federal share may be met by cash or in-kind contributions; although applicants are encouraged to meet their match requirements through cash contributions.

Therefore, a project requesting $200,000 in Federal funds must include a match of at least $50,000 (20% total project cost). As per 45 CFR Part 74.2, In-Kind contributions is defined as “the value of non-cash contributions provided by non-Federal third parties. Third party-in kind contributions may be in the form of real property, equipment, supplies and other expendable property, and the value of goods and services directly benefiting and specifically identifiable to the project or program.”

In addition it may include other Federal funding sources where its legislation or regulations authorizes using specific types of funds for a match and provided the source relates to the ANA project, as follows: Indian self-determination and Education Assistance funds, through the Department of Interior and the Department of Health and Human Services An itemized budget detailing the applicant's non-Federal share, and its source, must be included in an application.

If an applicant plans to charge indirect costs in its ANA application, a current copy of its Indirect Cost Agreement must be included in the application.

A request for a waiver of the non-Federal share requirement may be submitted in accordance with 45 CFR 1336.50(b) of the Native American Program Regulations.

F. Review Criteria

The evaluation criteria are closely related to each other and are considered as a whole in judging the overall quality of an application. Points are awarded only to applications which, are responsive to this program announcement. Proposed projects will be reviewed on a competitive basis using the following evaluation criteria:

(1) Goals and Available Resources (20 points)

a. the application describes the project goals and strategy, including: how applicant's goals relate to the de-regulation of electricity as it affects Indian Tribes and Native American communities how the proposed project intends to achieve these goals; Applications must clearly explain how the project was originated, state who the intended beneficiaries will be, and describe how the recipients will actually benefit from the project. National Indian and Native organizations should define their membership and describe how the organization operates.

b. Available resources (other than ANA and the non-Federal share) which will assist, and be coordinated with the project are described. These resources should be documented by letters or documents or commitment of resources, not merely letters of support. “Letters of support” merely express another organization's endorsement of a proposed project. Support letters are not binding commitment letters or do not factually establish the authenticity of other resources. “Letters and other documents of commitment” are binding when they specifically state the nature the amount, and conditions under which another individual, agency or organization will support a project funded with ANA funds.

These resources may be human, natural or financial, and may include other Federal and non-Federal resources. (Applicant statements that additional funding will be sought from other specific sources are not considered a binding commitment of outside resources.)

(2) Organizational Capabilities and Qualifications. (25 points)

a. The management and administrative structure of the applicant is explained. Evidence of the applicant's ability to manage a project of the proposed cope is demonstrated. The application clearly shows the successful management of projects of similar scope by the organization, and/or by the individuals designated to manage the project. Applicant must also explain how organizational experience and expertise in the area of energy resource management will benefit the project.

b. Position descriptions and/or resumes of key personnel, including those of consultants, represented. The position descriptions and/or resumes relate specifically to the staff proposed in the Approach Page and in the proposed Budget of the application. Position descriptions very clearly describe each position and its duties and clearly relate to the personnel staffing required to achieve the project objectives. Resumes demonstrate that the proposed staff are qualified to carry out the project activities. Either the position descriptions or the resumes contain the qualifications and/or specialized skills necessary for overall quality management of the project. Resumes must be included if individuals have been identified for positions in the application.

Note: Applicants are strongly encouraged to give preference to Native Americans in hiring staff and subcontracting services under an approved ANA grant.

(3) Project Objectives, Approach and Activities. (30 points)

The application proposes specific project Objective Work Plans with activities related to each specific objective. The Objective Work Plan(s) in the application includes project objectives and activities for the budget period and demonstrates that each of the objectives and its activities: Identifies the basic approach to be used in collecting, disseminating and presenting electricity de-regulation information; includes initial coordination with ANA; includes strategies and methods for analyzing options available to Indian Tribes and Native communities as a result of electricity de-regulation; is measurable and/or quantifiable in terms of results or outcomes; clearly relates to the applicant's goals and strategies; can be accomplished with the available or expected resources during the proposed project period; indicates when the objective, and major activities under each objective, will be accomplished; specifies who will conduct the activities under each objective;

(4) Results or Benefits Expected. (15 points)

Completion of the proposed objectives will result in specific, measurable results. The specific information provided in the narrative and objective work plans on expected results or benefits for each objective is the standard upon which its achievement can be evaluated at the end of the project.

(5) Budget. (10 points)

A detailed and fully explained budget is provided for the budget period requested which: Justifies each line item, with a well-written justification, in the budget categories in Section B of the Budget Information of the application, including the applicant's non-Federal share and its source; Includes and justifies sufficient cost and other necessary details to facilitate the determination of cost allowability and the relevance of these costs to the proposed project; and Requests funds which are appropriate and necessary for the scope of the proposed project.

Part III—General Application Information and Guidance

A. General Considerations

Non-ANA resources should be leveraged to strengthen and broaden the impact of the proposed project in the community. Project designs should explain how those parts of projects which ANA does not fund will be financed through other sources. Applicants must show the relationship of non-AnA funded activities to those objectives and activities that are funded with ANA grant funds.

Costs of fundraising, including financial campaigns, endowment drives, solicitation of gifts and bequests, and similar expenses incurred solely to raise capital or obtain contributions are unallowable under a grant award. Even though these costs are unallowable for purposes of computing charges to Federal awards, they must be treated as direct costs for purposes of determining indirect cost rates and be allocated their share of the organization's indirect costs if they represent activities which (1) include the salaries of personnel, (2) occupy space, and (3) benefit from the organization's indirect costs. All projects funded by ANA must be completed by the end of the project period. “Completed” means that the project ANA funded is finished, and the desired result(s) have been attained.

B. Activities That Cannot Be Funded by ANA

The Administration for Native Americans does not fund projects that operate indefinitely or require ANA funding on a recurring basis. The Administration for Native Americans does not fund objectives or activities for the core administration of an organization. “Core administration” is funding for staff salaries for those functions which support the organization as a whole, or for purposes unrelated to the actual management or implementation of work conducted under an ANA approved project.

However, functions and activities that are clearly project related are eligible for grant funding. For example, management and administrative functions necessary to carry out an ANA approved project are not considered “core administration” and are, therefore, eligible costs. Additionally, ANA will fund the salaries of approved staff for time actually and reasonably spent to implement a funded ANA project.

Projects or activities that generally will not meet the purposes of this announcement are discussed further in Part III, Section H, General Guidance to Applicants, below.

C. Length of Projects awards, on a competitive basis, will be for a one-year project and budget period.

D. Intergovernmental Review of Federal Programs, this program is not covered by Executive Order 12372 or 45 CFR part 100.

E. The Application Process

1. Availability of Application Forms

In order to be considered for a grant under this program announcement, an application must be submitted on the forms supplied and in the manner prescribed by ANA. The application kits containing the necessary forms and instructions may be obtained from the following Training and Technical Assistance (T/TA) Providers:

RJS & Associates, Inc., Dr. Robert Swan, C.E.O., RR1, Box 694, Box Elder, MT 59521, Tel: 406-395-4727 or 888-838-4757 Fax:406-395-4759, e-mail: rjsinc@rjsinc.org, website: http//www.rjsinc.org/region2.html

Native American Management Services, Inc., Tonya Parker, Project Director, 6858 Old Dominion Drive, Suite 302, McLean, VA 22101, Tel: 703-821-2226 or 800-388-7670, Fax: 703-821-3680, e-mail: nams@namsinc.org

Development Associates, Inc., E. Robles, Project Director, 1475 North Broadway, Suite 200, Walnut Creek, CA 94596, Tel: 925-935-9711 or 800-666-9711, Fax: 925-935-0413, e-mail: ana3@devassoc.com, website: http://www.devassoc.com/ana/anaversion2.htm

2. Application Submission

One signed original, and two copies, of the grant application, including all attachments, must be mailed on or before the closing date to: Department of Health and Human Services, Administration for Children and Families, Division of Discretionary Grants, 370 L'Enfant Promenade, SW., Mail Stop HHH 326-F, Washington, DC 20447, Attention: Lois B. Hodge ANA No. 93612-0004.

Hand delivered applications are accepted between the hours of 8 a.m. to 4:30 p.m., Monday through Friday, on or prior to the established closing date at: Administration for Children and Families, Office of Grants Management, ACF Mailroom, 2nd Floor Loading Dock, Aerospace Center, 901 D Street, SW, Washington, DC 20024.

The application (Form 424) must be signed by an individual authorized (1) to act for the applicant Tribe or organization, and (2) to assume the applicant's obligations under the terms and conditions of the grant award, including Native American Program statutory and regulatory requirements.

Each eligible applicant may compete in all geographic areas. However, it can receive a grant award in only one of the geographic areas under this announcement. Should a shortage of highly ranked organizations develop, however, ANA may award more than one grant to an organization or may combine geographic areas under one grant.

The Administration for Native Americans will accept only one application per geographic area from any one applicant. If an eligible applicant sends in two applications for the same geographic area, the one with the earlier postmark will be accepted for review unless the applicant withdraws the earlier application. Four (4) separate ranking lists, one for each geographic area, will be utilized in the decision process.

3. Application Consideration

The ANA Commissioner determines the final action to be taken on each grant application received under this program announcement.

The following points should be taken into consideration by all applicants:

• Incomplete applications and applications that do not conform to this announcement will not be accepted for review.

• Applicants will be notified in writing of any such determination by ANA.

• Complete applications that conform to all the requirements of this program announcement are subjected to a competitive review and evaluation process (discussed in section F below).

• Independent review panels consisting of reviewers familiar with American Indian Tribes, Native American communities and organizations, and the de-regulation of electricity evaluate each application using the published criteria. As a result of the review, a numerical score will be assigned to each application.

• The Commissioner's funding decision is based on the review panel's analysis of the application, recommendation and comments of ANA staff, State and Federal agencies having contract and grant performance related information, and other interested parties.

• The Commissioner makes grant awards consistent with the purpose of the Act, all relevant statutory and regulatory requirements, this program announcement, and the availability of funds.

• After the Commissioner has made decisions on all applications, unsuccessful applicants are notified in writing within approximately 30 days. Successful applicants are notified through an official Financial Assistance Award (FAA) document.

• ANA staff cannot respond to requests for information regarding funding decisions prior to the official notification to the applicants.

• The FAA will state the amount of Federal funds awarded, the purpose of the grant, the terms and conditions of the grant award, the effective date of the award, the project period, the budget period, and the amount of the non-ACF matching share requirement.

F. The Review Process

1. Initial Application Review

Applications submitted by the closing date and verified by the postmark under this program announcement will undergo a pre-review to determine that: The applicant is eligible in accordance with the Eligible Applicants Section of this announcement; and the application is signed and submitted by the deadline explained in section I, Receipt of Applications, of this announcement.

2. Competitive Review of Accepted Applications

Applications which pass the pre-review will be evaluated and rated by an independent review panel on the basis of the specific evaluation criteria listed in Part II. These criteria are used to evaluate the quality of a proposed project, and to determine the likelihood of its success.

3. Appeal of Ineligibility

Applicants who are initially rejected from competitive evaluation because of ineligibility, may appeal an ANA decision of applicant ineligibility. Likewise, applicants may also appeal an ANA decision that an applicant's proposed activities are ineligible for funding consideration.

G. General Guidance to Applicants

The following information is provided to assist applicants in developing a competitive application.

1. Program Guidance

The Administration for Native Americans funds projects that demonstrate the strongest prospects for addressing the stated purposes of this program announcement. Projects will not be funded on the basis of need alone. In discussing the goals, strategy, and problems being addressed in the application, present sufficient background concerning these issues, including electricity deregulation policy.

This material will assist the reviewers in determining the appropriateness and potential benefits of the proposed project. Applicants must document the community's support for the proposed project and explain the role of the community in the planning process and implementation of the proposed project. For Tribes, a current signed resolution from the governing body of the Tribe supporting the project proposal stating that there has been community involvement in the planning of this project will suffice as evidence of community support/involvement. For all other eligible applicants, the type of community you serve will determine the type of documentation necessary. For example, a tribal organization may submit resolutions supporting the project proposal from each of its members Tribes, as well as a resolution from the applicant organization.

The project application, including the Objective Work Plans, must clearly identify in measurable terms the expected results, benefits or outcomes of the proposed project, and the positive or continuing impact that the project will have on the community.

Supporting documentation, including letters of support, if available, or other testimonies from concerned interests other than the applicant should be included to demonstrate support for the feasibility of the project and the commitment of other resources to the proposed project.

2. Technical Guidance

Applicants are encouraged to have someone other than the author apply the evaluation criteria in the program announcement and score the application prior to its submission, in order to gain a better sense of the application's quality and potential competitiveness in the ANA review process.

For purposes of developing an application, applicants should plan for a project start date approximately 60 days after the closing date under which the application is submitted.

For purposes of this announcement, ANA is using the Bureau of Indian Affairs' list of Federally recognized Indian Tribes which includes nonprofit Alaska Native community entities or tribal governing bodies (IRA or traditional councils). Other Federally recognized Indian Tribes which, may not yet be included on this list (e.g., those Tribes which have been recently recognized or restored by the United States Congress) are also eligible to apply for ANA funds.

Eligible applicants may submit one application per geographic area. If an eligible applicant sends in two applications for the same geographic area, the one with the earlier postmark will be accepted for review unless the applicant withdraws the earlier application.

An application from a Tribe or Native American organization must be from the governing body of the Tribe or organization. ANA will not accept applications from tribal components which are tribally-authorized divisions of a larger Tribe, unless the application includes a Tribal resolution which clearly demonstrates the Tribe's support of the project and the Tribe's understanding that the other applicant's project supplants the Tribe's authority to submit an application for the duration of the approved grant period.

The application's Form 424 must be signed by the applicant's representative authorized to act with full authority on behalf of the applicant.

The Administration for Native Americans recommends that the pages of the application be numbered sequentially and that a table of contents be provided. Simple tabbing of the sections of the application is also helpful to the reviewers.

An application with an original signature and two additional copies are required. The Cover Page (included in the Kit) should be the first page of an application, followed by the one-page abstract.

The Approach page (Section B of the ANA Program Narrative) for each Objective Work Plan proposed should be of sufficient detail to become a monthly staff guide for project responsibilities if the applicant is funded.

Line 15a of the Form 424 must specify the Federal funds requested for the Budget Period. The Administration for Native Americans will critically evaluate applications in which the acquisition of equipment is a major component of the Federal share of the budget. “Equipment is tangible, non-expendable personal property having a useful life of more than one year and an acquisition cost of $5,000 or more per unit.” During negotiation, such expenditures may be deleted from the budget of an otherwise approved application, if not fully justified by the applicant and not deemed appropriate to the needs of the project by ANA.

Applicants are encouraged to request a legibly dated receipt from a commercial carrier or U.S. Postal Service as proof of timely mailing.

3. Projects or Activities That Generally Will Not Meet The Purposes of This Announcement

The support of on-going social service delivery programs or the expansion, or continuation, of existing social service delivery programs.

Core administration functions, or other activities, which essentially support only the applicant's on-going administrative functions. Project goals, which are not responsive to this program announcement.

Proposals from consortia of Tribes that are not specific with regard to support from, and roles of, member Tribes.

Projects that will not be completed by the end of the project period.

ANA will not fund the purchase of real estate (see 45 CFR 1336.50 (e)) or construction.

Projects originated and designed by consultants who provide a major role for themselves in the proposed project and are not members of the applicant organization, Tribe or village.

H. Paperwork Reduction Act of 1995

Under the Paperwork Reduction Act of 1995, Pub. L. 104-13, the Department is required to submit to the Office of Management and Budget (OMB) for review and approval any reporting and recordkeeping requirements in regulations including program announcements. Information collection through this Program Announcement, including the program narrative statement, are approved by the OMB under control number 0980-0204, which expires April 30, 2003.

I. Receipt of Applications

The closing date for the submission of applications is [30 days from the date of publication in the Federal Register]. Applications postmarked after the closing date will be classified as late.

1. Deadline

Mailed applications shall be considered as meeting an announced deadline if they are either received on or before the deadline date or sent on or before the deadline date and received by ACF in time for the independent review to: U.S. Department of Health and Human Services, Administration for Children and Families, Office of Grants Management, 370 L'Enfant Promenade, SW, Mail Stop 6C-462, Washington, DC 20447.

Applicants are cautioned to request a legibly dated U.S. Postal Service postmark or to obtain a legibly dated receipt from a commercial carrier or the U.S. Postal Service. Private metered postmarks shall not be acceptable as proof of timely mailing.

Applications hand carried by applicants, applicant couriers, or by overnight/express mail couriers shall be considered as meeting an announced deadline if they are received on or before the deadline date, Monday through Friday (excluding Federal holidays), between the hours of 8 a.m. and 4:30 p.m., at: U.S. Department of Health and Human Services, Administration for Children and Families, Office of Grants Management, ACF Mailroom, 2nd Floor Loading Dock, Aerospace Center, 901 D Street, SW., Washington, DC 20024.

(Applicants are cautioned that express/overnight mail services do not always deliver as agreed.)

ACF cannot accommodate transmission of applications by fax or through other electronic media. Therefore, applications transmitted to ACF electronically will not be accepted regardless of date or time of submission and time of receipt.

2. Late Applications

Applications, which do not meet the criteria above, are considered late applications. ACF shall notify each late applicant that its application will not be considered in the current competition.

3. Extension of Deadlines

The Administration for Children and Families may extend the deadline for all applicants because of acts of God such as floods, hurricanes, etc., widespread disruption of the mails, or when it is anticipated that many of the applications will come from rural or remote areas. However, if ACF does not extend the deadline for all applicants, it may not waive or extend the deadline for any applicant.

(Catalog of Federal Domestic Assistance Program Number: 93.612 Native American programs)

Dated: June 30, 2000.
Gary Mounts,
Acting Commissioner, Administration for Native Americans.

[FR Doc. 00-17204 Filed 7-6-00; 8:45 am]

BILLING CODE 4184-01-M